DEPARTMENT OF HEALTH AND HUMAN SERVICES

Centers for Disease Control and Prevention

[60Day-08-08AY]

Proposed Data Collections Submitted for Public Comment and Recommendations

In compliance with the requirements of section 3506(C)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Knowledge, Attitudes, and Behavior of Medical Residents toward Adult Patients Who Have Experienced Adverse Childhood Experiences—New—National Center for Chronic Disease Prevention and Health Promotion (NCCDPHP), Centers for Disease Control and Prevention (CDC).

Background and Brief Description

Recent advances in public health and medical research have underscored the role childhood trauma plays in the genesis of major risk factors for the leading causes of morbidity and mortality among adults in the United States. Evidence from a range of samples suggests that exposure to adverse childhood experiences (ACEs) is more common than previously understood, and that those affected by ACEs will have a major impact on the delivery of health care services through higher utilization and treatment costs. Although these findings are widely cited by psychologists, psychiatrists, and social workers, it is less clear that this information has circulated broadly within medical professions where it may be helpful in secondary and tertiary prevention of health problems. The literature also suggests that physicians may be uncomfortable with screening adult patients for ACEs.

As part of ongoing efforts to reduce the burden of chronic disease, the Division of Adult and Community Health at CDC seeks to collect information about the penetration into current medical education of evidence concerning the relationship between ACEs and poor adult health. Information will be collected by administering a brief voluntary questionnaire to 300 fourth-year medical residents. The sample will be drawn from a range of U.S. medical schools as well as through the American Medical Student Association. Potential participants will be solicited via e-mail, and those who choose to participate will be directed via a web-link to a web-based survey instrument.

Information to be collected includes residency type, public health experience, and an attitudes and knowledge measure designed to determine medical residents' current expertise in recognizing the long-term outcomes associated with adverse childhood experiences.

By understanding the quality of medical education in this area and the attitudes, beliefs, and experiences of medical residents, educational initiatives can be developed that will address the unmet needs of future physicians to care for the large number of patients burdened by ACEs.

There are no costs to respondents other than their time.

Estimated Annualized Burden Hours
Type of respondents | Number of respondents | Number of responses per respondent | Average burden per response (in hours) | Total burden (in hours)
Medical School Residents | 300 | 1 | 30/60 | 150

Dated: April 8, 2008.
Maryam I. Daneshvar,
Acting Reports Clearance Officer, Centers for Disease Control and Prevention.

[FR Doc. E8-7844 Filed 4-11-08; 8:45 am]

BILLING CODE 4163-18-P